DEPARTMENT OF TRANSPORTATION

Federal Highway Administration

Environmental Impact Statement; St. Lucie County, FL

AGENCY: Federal Highway Administration (FHWA), DOT.

ACTION: Notice of Intent.

SUMMARY: The FHWA is issuing this notice to advise the public that an Environmental Impact Statement (EIS) will be prepared for a proposed new river crossing project in the City of Port St. Lucie, St. Lucie County, Florida.

FOR FURTHER INFORMATION CONTACT: Mr. George Hadley, Federal Highway Administration, 545 John Knox Road, Suite 200, Tallahassee, Florida 32303, Telephone: (850) 942-9650 ext. 3011.

SUPPLEMENTARY INFORMATION: The FHWA, in cooperation with the Florida Department of Transportation, will prepare an EIS for a third east-west bridge crossing over the North Fork of the St. Lucie River in the City of Port St. Lucie, in St. Lucie County, Florida. The proposed improvement would link the Crosstown Parkway on the west to U.S. 1 (SR 5) on the east. The proposed action is known as the Crosstown Parkway Corridor Extension Study and was formerly known as the Third East-West River Crossing Study. The proposed action would provide needed relief to the two existing river crossings which are over capacity. Alternatives under consideration include a No Build Alternative and multiple alternatives that provide a river crossing on a new alignment. Expansion of the two existing river crossings was previously considered and determined to be infeasible.

Coordination with appropriate Federal, State, and local agencies, and private organizations and citizens who have expressed interest in this proposal has been ongoing and will continue. A series of public meetings and workshops have been held in Port St. Lucie as part of the planning efforts for this project and will continue throughout the EIS process. A formal scoping meeting is planned for this project and is anticipated to occur in August of 2008. In addition, public workshops and a public hearing will be held. Public notice will be given of the time and place of the hearing and for future meetings. The Draft EIS will be made available for public and agency review and comment before the public hearing date.

To ensure that the full range of issues related to the proposed action is addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation of Federal programs and activities apply to this program.)

Issued on: July 15, 2008.
George B. Hadley,
Environmental Programs Coordinator, Tallahassee, Florida.

[FR Doc. E8-16574 Filed 7-18-08; 8:45 am]

BILLING CODE 4910-22-P